SMALL BUSINESS ADMINISTRATION

Office of Economic Opportunity—Microloan Program Survey

AGENCY: Small Business Administration.

ACTION: Notice of availability of SBA Microloan Program survey.

SUMMARY: The John S. McCain National Defense Authorization Act for Fiscal Year 2019 (NDAA 2019) requires the Small Business Administration (SBA) to conduct a study of microenterprise participation. To meet this requirement, SBA has created a survey to be completed by SBA Microloan Intermediaries (Intermediaries) and entities that are eligible to become Intermediaries, but do not currently participate.

DATES: The survey will be available upon publication for approximately 45 days.

ADDRESSES: The survey will be available at the following URL: https://www.surveymonkey.com/r/7MRD3SM.

All submissions will become part of the public record and subject to public disclosure. Sensitive information and information that you consider to be Confidential Business Information or otherwise protected should not be included. Submissions will not be edited to remove any identifying or contact information.

FOR FURTHER INFORMATION CONTACT: Daniel Upham, Office of Economic Opportunity, at (202) 205-7001.

SUPPLEMENTARY INFORMATION:

I. Background

Section 7(m) of the Small Business Act (15 U.S.C. 636(m)) authorizes the SBA to make direct loans to eligible intermediaries for the purpose of providing loans of up to $50,000 to startup, newly established, or growing small business concerns for working capital or the acquisition of materials, supplies, or equipment. Section 7(m) also authorizes SBA to make grants to these intermediaries to provide small business borrowers with technical assistance. Eligible intermediaries include organizations that have at least one year of experience making microloans and providing technical assistance to borrowers and are one of the following entity types: (1) Private, nonprofit community development corporations, or other non-profit entities; (2) consortiums of private, nonprofit community development corporations or other nonprofit organizations; (3) quasi-governmental economic development entities, other than a state, county, municipal government or any agency thereof; and (4) agencies of, or nonprofit entities established by Native American Tribal Governments.

II. Survey

The NDAA 2019 requires SBA to study the level of participation by intermediaries that are eligible to participate in the Agency's Microloan Program. As required by law, this survey has been approved by the Office of Management and Budget under Control Number 3245-XXXX. Based on information from the survey responses, SBA expects to deliver a report to Congress that includes: (1) Information on the operations of current Microloan Intermediaries and entities that are eligible to participate in the Microloan program but that do not participate; (2) the reasons why eligible entities choose not to participate in the Microloan program; (3) recommendations on how to encourage increased participation in the Microloan program by eligible entities; and (4) recommendations on how to decrease the costs associated with participation in the Microloan program for Intermediaries. Responses to this survey are voluntary, but strongly encouraged in order to gain valuable insights and improve the Microloan program in the future.

(Authority: Sec. 853(c), Pub. L.115-232.)

Dated: June 11, 2019.
Curtis Rich,
Management Analyst.

[FR Doc. 2019-12699 Filed 6-14-19; 8:45 am]

BILLING CODE P